DEPARTMENT OF LABOR

Employment and Training Administration

[TA-W-54,746]

Eureka Security Printing, Jessup, PA; Dismissal of Application for Reconsideration

Pursuant to 29 CFR 90.18(C) an application for administrative reconsideration was filed with the Director of the Division of Trade Adjustment Assistance for workers at Eureka Security Printing, Jessup, Pennsylvania. The application contained no new substantial information which would bear importantly on the Department's determination. Therefore, dismissal of the application was issued.

TA-W-54,746; Eureka Security Printing Jessup, Pennsylvania (July 16, 2004)

Signed at Washington, DC, this 16th day of July, 2004.
Timothy Sullivan,
Director, Division of Trade Adjustment Assistance.

[FR Doc. 04-16768 Filed 7-22-04; 8:45 am]

BILLING CODE 4510-30-P